DEPARTMENT OF TRANSPORTATION

Coast Guard

[USCG-2000-8568]

Revised Recertification Procedure for Alternative Voluntary Advisory Groups in Lieu of Councils, Prince William Sound and Cook Inlet, AK

AGENCY: Coast Guard, DOT.

ACTION: Notice of proposal to change procedure; request for comments.

SUMMARY: Under the Oil Terminal and Oil Tanker Environmental Oversight and Monitoring Act of 1990, the Coast Guard may certify, on an annual basis, an alternative voluntary advisory group in lieu of a Regional Citizen's Advisory Council for Cook Inlet and Prince William Sound regions of Alaska. The purpose of this notice is to inform the public that the Coast Guard intends to revise the procedure by which the alternative voluntary advisory groups undergo annual recertification with the objective of streamlining the administrative burden to the advisory groups, the Coast Guard and other involved parties.

DATES: Comments must reach the Document Management Facility on or before Febraury 12, 2001.

ADDRESSES: To make sure your written comments and related material are not entered more than once in the docket, please submit them by only one of the following means:

(1) By mail to the Docket Management Facility, (USCG-2000-8568), U.S. Department of Transportation, room PL-401, 400 Seventh Street SW, Washington, DC 20590-0001.

(2) By hand delivery to room PL-401 on the Plaza level of the Nassif Building, 400 Seventh Street SW, Washington, DC 20590-0001, between 9 a.m. and 5 p.m., Monday through Friday, except holidays. The telephone number is 202-366-9329.

(3) By fax to the Docket Management Facility at 202-493-2251.

(4) Electronically through the Web Site for the Docket Management System at http://dms.dot.gov.

The Docket Management Facility maintains the public docket for this notice. Comments will become part of this docket and will be available for inspection or copying at room PL-401, located on the Plaza Level of the Nassif Building at the above address between 9 a.m. and 5 p.m., Monday through Friday, except Federal holidays. You may electronically access the public docket for this notice on the Internet at http://dms.dot.gov.

FOR FURTHER INFORMATION CONTACT: For questions on viewing or submitting material to the docket, contact Dorothy Beard, Chief, Dockets, Department of Transportation, telephone 202-366-9329; for questions on this notice, contact LT Mark Tennyson, Coast Guard, telephone 202-267-0486.

SUPPLEMENTARY INFORMATION:

Request for Comments

We encourage you to submit comments and related material on this notice. If you do so, please include your name and address, identify the docket number for this notice (USCG-2000-8568), and give the reasons for each comment. You may submit your comments and material by mail, hand delivery, fax, or electronic means to the Document Management Facility at the address under ADDRESSES; but please submit your comments and material by only one means. If you submit them by mail or hand delivery, submit them in an unbound format, no larger than 8½×11 inches, suitable for copying and electronic filing. If you want acknowledgment of receipt of your comments, enclose a stamped, self-addressed post card or envelope. We will consider all comments and materials received during the comment period. We intend to finalize any procedural changes in time for the 2001 certification season. A notice will be published in a later Federal Register.

Public Meeting

We do not now plan to hold a public meeting. You may submit a request for a public hearing by writing to Director (G-MW), Commandant, 2100 Second Street SW., Washington, DC 20593-0001. You may also deliver them to the same address in room 1408. The request should include reasons why a hearing would be beneficial. If there is sufficient evidence to determine that oral presentations will aid this process, we will hold a public hearing at a time and place announced by a later notice in the Federal Register.

Background and Purpose

As part of the Oil Pollution Act of 1990, Congress passed the Oil Terminal and Oil Tanker Environmental Oversight and Monitoring Act of 1990 (33 U.S.C. 2732) (the Act) to foster the long-term partnership among industry, government, and local communities in overseeing compliance with environmental concerns in the operation of crude oil terminals and oil tankers.

Paragraph (o) of the Act permits an alternative voluntary advisory group to represent the communities and interests in the vicinity of the oil terminal facilities in Cook Inlet and Prince William Sound regions of Alaska in lieu of a Council of the type specified in 33 U.S.C. 2732(d), if certain conditions are met. The Act requires that each group enter into a contract to ensure annual funding and receive annual certification from the President that it fosters the general goals and purposes of the Act and is broadly representative of the community and interests in the vicinity of the terminal facilities. Accordingly, in 1991, the President granted certification to both the Cook Inlet Regional Citizen's Advisory Council (RCAC) and the Prince William Sound RCAC alternative voluntary advisory groups (advisory groups). The authority to certify advisory groups was subsequently delegated to the Commandant of the Coast Guard and redelegated to the Chief, Office of Marine Safety, Security and Environmental Protection. In February 1999, the authority to certify these advisory groups was redelegated to the Commander, Seventeenth Coast Guard District in Juneau, Alaska.

The Coast Guard published guidelines on December 31, 1992 (57 FR 62600), to assist groups seeking recertification under the Act. We issued a policy statement on July 7, 1993 (58 FR 36504), to clarify the factors that we would be considering in making our determination as to whether advisory groups should be certified in accordance with the Act; and the procedures which we would follow in meeting our certification responsibilities under the Act. Since then, both the Prince William Sound and Cook Inlet advisory groups have been recertified annually. Based on the experiences of the recertification processes conducted from 1993 to 2000, as well as the evolution of the advisory groups from new, untested organizations to stable, functioning organizations, the Coast Guard believes the recertification procedure should be streamlined, reducing the substantial annual administrative burden placed on the advisory groups, the Coast Guard and the public.

Proposed Action

This notice proposes two changes to the guidelines available to assist advisory groups seeking recertification under the Act. First, we propose to amend the application procedure. Second, we propose to amend the public review procedure (i.e., the notice and comment period provided under the current procedure).

Under the current guidelines, when an advisory group applies or re-applies for annual certification, it should submit the information relevant to the general criteria set forth in section 2732 (c) through (l) of the Act and, subsequently, in the July 7, 1993 Federal Register (58 FR 36504). This information enables us to review the advisory group's activities over the past year, as well as future planned activities, including projects, studies, plans, permits, regulations, procedures, membership policies, public accessibility of the advisory group and its work, use of finances, and the establishment of a funding contract with designated industry members.

We now propose that an applicant for recertification should provide us with this comprehensive information once every 3 years (triennially). For each of the 2 years between the triennial application procedure, applicants should submit a letter requesting recertification and describe any substantive changes to the information provided at the last triennial recertification. A copy of the previous year's annual report, annual financial statement, and Budget and Spending Plan for the coming year should also be included.

Although we will continue to evaluate an advisory group's request for recertification every year, we believe that an annual collection of information is redundant and unnecessary. Experience gathered from 1993 to present has shown us that the majority of information submitted by advisory groups seeking recertification remains unchanged year-to-year and both the government and the public would benefit from a streamlined administrative procedure.

The second proposed change pertains to the solicitation of public comments through Federal Register publication. The current guidelines provide that upon receipt of an application for recertification as an alternative advisory group, we will solicit comments from the public by publishing a notice and request for comments in the Federal Register. After a 45 day comment period, we will review the application and all comments received within the comment period and make a determination. The public will then be notified of the decision by Federal Register publication.

We now propose to solicit public comments every three years by publishing a notice and request for comments in the Federal Register. We believe that the public will benefit from a triennial public comment period. The majority of recent comments have expressed general agreement that the advisory groups have fulfilled their role as mandated by the Oil Pollution Act of 1990. Therefore, interested individuals and groups will be able to engage in a more substantial and meaningful dialogue if the comment period is opened triennially rather than annually. This streamlining provision would also reduce the administrative burden to both the government and the public.

This notice proposes to change the procedure for certification only during the 2 intervening years. First, a previously-certified advisory group will not have to re-submit a full application for recertification every year. Instead, an advisory group certified in the triennial certification year will, in the intervening 2 years, only have to submit updates or changes from the previous year's application. Second, we will only solicit comments from the public during the triennial certification year. We propose that this procedure commences with the 2001 certification season, meaning that applicants seeking recertification in 2001 need only submit the streamlined application and that we will not solicit public comments prior to recertification during 2001. The triennial review process will take place in 2003. However, we will continue to recertify advisory groups annually. We will continue to use our established criteria to evaluate an advisory group's application for recertification. Finally, we will continue to advise the public of any recertification granted each year, by Federal Register notice.

Dated: December 21, 2000.
Joseph J. Angelo,
Acting Assistant Commandant, for Marine Safety and Environmental Protection.

[FR Doc. 00-33192 Filed 12-27-00; 8:45 am]

BILLING CODE 4910-15-P